DEPARTMENT OF TRANSPORTATION

Federal Aviation Administration

[Summary Notice No. PE-2001-26]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (part 11 of Title 14, Code of Federal Regulations (14 CFR), this notice contains a summary of certain petitions seeking relief from specified requirements of 14 CFR, dispositions of certain petitions previously received. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 19, 2001.

ADDRESSES: Send comments on any petition to the Docket Management System, U.S. Department of Transportation, Room Plaza 401, 400 Seventh, Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at

http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, DC, on April 27, 2001.
Gary A. Michel,
Acting, Assistant Chief Counsel for Regulations.

Petitions for Exemption

Docket No.: FAA-2000-8454.

Petitioner: United Air Lines, Inc. Association.

Section of 14 CFR Affected:. 14 CFR 121.434 (c)(1)(ii).

Description of Relief Sought: Currently, UAL is permitted under Exemption No. 6570, as amended, substitute a qualified and authorized check airman for an FAA inspector when an inspector is not available to accomplish the required observation during the scheduled operating experience flight legs of a qualifying pilot in command (PIC) who is completing initial or upgrade training. Under Condition No. 7 of this exemption, UAL must not conduct a required observation prior to the flight leg during which the qualifying PIC will complete the minimum number of hours specified in §121.434(c)(3). UAL seeks to amend this condition to conduct an observation flight during the flight leg in which the qualifying PIC is to complete at least 80% of the minimum number of hours specified in §121.434(c)(3).

Dispositions of Petitions

Docket No.: FAA-2000-8508.

Petitioner: Boeing Airplane Services.

Section of 14 CFR Affected: 14 CFR 25.783(h), 25.807(d)(1), 25.807(e)(1), 25.810(a)(1), 25.812(e), 25.813(b), 26.857(e), 25.1445(a)(2), and 25.1447(c)(1)

Description of Relief Sought/Disposition: To allow the carriage of up to three persons, in addition to two crewmembers, in the flight compartment of the Boeing Model 757-200 series airplane converted from passenger version to a Special Freighter under FAA Project ST2448WI-T.

Partial Grant, 03/22/2001, Exemption No. 7469

[FR Doc. 01-7939 Filed 3-27-01; 3:30 am]

BILLING CODE 4910-13-M